ENVIRONMENTAL PROTECTION AGENCY

[ER-FRL-8593-9]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7146. An explanation of the ratings assigned to draft environmental impact statements (EISs) was published in FR dated April 17, 2009 (74 FR 17860).

Draft EISs

EIS No. 20090065, ERP No. D-COE-E39077-NC, Western Wake Regional Wastewater Management Facilities, Proposed Construction of Regional Wastewater Pumping, Conveyance, Treatment, and Discharge Facilities to Serve the Towns of Apex, Cary, Holly Springs and Morrisville, Research Triangle Park, Wake County, NC.

Summary: EPA expressed environmental concerns about the lack of water quality modeling for a potential Harris Lake discharge and the need for a more detailed wetlands delineation concerning the transmission corridor. Rating EC2.

EIS No. 20090092, ERP No. D-FHW-H40195-MO, East Columbia Transportation Project, To Improve the Transportation Network in Eastern Columbia/Boone County by: (1) Extending Route 740 from its Terminus at US-63, along a new Alignment, to I-70 at the existing St. Charles road interchange, (2) Improving existing Broadway (Route WW) to Olivet Road and (3) Extending Ballenger Lane, from Future Route 740 to Clark Lane, City of Columbia, Boone County, MO.

Summary: EPA does not object to the proposed project. Rating LO.

EIS No. 20090094, ERP No. D-UAF-K11124-HI, Fort Kamehameha Historic District Buildings and Structures, Proposes to Dispose of their Obligation of Continuing Management and Maintenance, Hickam Air Force Base (AFB), HI.

Summary: EPA does not object to the proposed project. Rating LO.

EIS No. 20090085, ERP No. DR-FHW-K40264-CA, Partially Revised Tier 1—Placer Parkway Corridor Preservation Project, Select and Preserve a Corridor for the Future Construction from CA-70/99 to CA 65, Placer and Sutter Counties, CA.

Summary: EPA continues to have environmental concerns about impacts to aquatic and biological resources. Rating EC2.

EIS No. 20080405, ERP No. DS-COE-G34043-LA, Inner Harbor Navigation Canal (IHNC) Lock Replacement Project, Proposal for Relieving Navigation Traffic Congestion Associated with IHNC Lock, Located between the St. Claude Avenue and North Claiborne Avenue Bridge, Orleans, LA.

Summary: EPA expressed environmental concerns about the proposed project and requested additional information with regard to mitigation of potential adverse impacts. Rating EC2.

EIS No. 20090067, ERP No. DS-FHW-G40184-TX, Trinity Parkway Project, New and Additional Information, Construction of a Six-Lane Controlled Access Toll Facility from IH-35 E/TX-183 to US-175/TX-310, US Army COE Section 10 and 404 Permits, Dallas County, TX.

Summary: EPA expressed environmental concerns about impacts to wetlands, water quality, and wildlife habitat, and requested additional information and impact analysis. Rating EC2.

Final EISs

EIS No. 20080392, ERP No. F-BLM-K67057-NV, Cortez Hills Expansion Project, Proposes to Construct and Operate a New Facilities and Expansion of the Existing Open-Pit Gold Mining and Processing Operations, Crescent Valley, Lander and Eureka Counties, NV.

Summary: EPA expressed environmental concerns about the potential loss of up to 4.2 acres of wetland/riparian habitat from filling for project facilities and from groundwater drawdown.

EIS No. 20090090, ERP No. F-FHW-F40440-00, Blue Water Bridge Plaza Study and Improve to the I-94/T-69 Corridor, To Provide Safe, Efficient and Secure Movement of People and Goods across the Canadian-US Border, Port Huron Area, St. Clair County, MI.

Summary: EPA's previous issues have been resolved; therefore, EPA does not object to the proposed action.

EIS No. 20090111, ERP No. F-COE-K39112-CA, Middle Harbor Redevelopment Project, Proposal to Increase Container Terminal Efficiency to Accommodate a Portion of the Predicted Future Containerized Cargo, Section 10 and 404 Permits, Port of Long Beach, Los Angeles County, CA.

Summary: EPA recommended that the Record of Decision include additional information to demonstrate that the proposed action would represent the least environmentally damaging practicable alternative under the Clean Water Act Section 404(b)(1) Guidelines.

EIS No. 20090114, ERP No. FB-COE-K32046-CA, Port of Los Angeles Channel Deepening Project, To Dispose of Approximately 3.0 Million Cubic Yards of Dredge Material Required to Complete the Channel Deepening Project and to Beneficially Reuse the Dredge Material with the Port of Los Angeles, Los Angeles County, CA.

Summary: EPA continues to have environmental concerns about cumulative impacts to air quality and human health, and avoiding ocean disposal of sediments. EPA recommended commitments to reduce air quality impacts and optimize beneficial reuse of dredge material.

EIS No. 20090063, ERP No. FS-UAF-A10051-MA, Pave PAWS Early Warning Radar Operation Project, Continued Operation of the Solid-State Phased-Array Radar System (SSPARS), also known as Pave, Phased Array Warning Systems (PAWS), Cape Cod Air Force Station, MA.

Summary: No formal comment letter was sent to the preparing agency.

EIS No. 20090097, ERP No. FS-COE-E11060-NC, Topsail Beach Interim (Emergency) Beach Fill Project—Permit Request, Proposal to Place Sand on 4.7 miles of the Town's Shoreline to Protect the Dune Complex and Oceanfront Development, Onslow and Pender Counties, NC.

Summary: EPA agrees with relocating the sand borrow area slightly seaward in order to lessen impacts to the inlet ebb tidal delta. EPA recommended that corrective actions be identified in the monitoring plan should adverse impacts be greater than expected.

Dated: May 26,2009.
Ken Mittelholtz,
Environmental Protection Specialist, Office of Federal Activities.

[FR Doc. E9-12547 Filed 5-28-09; 8:45 am]

BILLING CODE 6560-50-P